DEPARTMENT OF HEALTH AND HUMAN SERVICES

National Institutes of Health

Center for Scientific Review; Amended Notice of Meeting

Notice is hereby given of a change in the meeting of the Center for Scientific Review Special Emphasis Panel, October 9, 2015, 8:30 a.m. to October 9, 2015, 7:00 p.m., The Dupont Circle Hotel, 1500 New Hampshire Avenue NW., Washington, DC, 20036 which was published in the Federal Register on September 16, 2015, 80 FR 55635.

The meeting title was changed to: “Nursing and Related Clinical Sciences Overflow Meeting”. All other details remain unchanged. The meeting is closed to the public.

Dated: September 30, 2015.
David Clary,
Program Analyst, Office of Federal Advisory Committee Policy

[FR Doc. 2015-25263 Filed 10-2-15; 8:45 am]

BILLING CODE 4140-01-P